DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Alabama: St. Clair (FEMA Docket No.: B-2341). | Unincorporated areas of St. Clair County (23-04-0305P). | Stan Bateman, Chair, St. Clair County Board of Commissioners, 165 5th Avenue, Ashville, AL 35953. | St. Clair County, Highway Department, 31588 U.S. Highway 231, Ashville, AL 35953. | Aug. 11, 2023 | 010290
Colorado:
Adams (FEMA Docket No.: B-2334). | City of Northglenn (22-08-0327P). | The Honorable Meredith Leighty, Mayor, City of Northglenn, 11701 Community Center Drive, Northglenn, CO 80233. | City Hall, 11701 Community Center Drive, Northglenn, CO 80233. | Jul. 28, 2023 | 080257
Adams (FEMA Docket No.: B-2334). | City of Thornton (22-08-0327P). | The Honorable Jan Kulmann, Mayor, City of Thornton, 9500 Civic Center Drive, Thornton, CO 80229. | City Hall, 9500 Civic Center Drive, Thornton, CO 80229. | Jul. 28, 2023 | 080007
Arapahoe (FEMA Docket No.: B-2341). | City of Centennial (21-08-0505P). | The Honorable Stephanie Piko, Mayor, City of Centennial, 13133 East Arapahoe Road, Centennial, CO 80112. | Southeast Metro Stormwater Authority, 7437 South Fairplay Street, Centennial, CO 80112. | Jul. 24, 2023 | 080315
Arapahoe (FEMA Docket No.: B-2341). | City of Greenwood Village (21-08-0505P). | The Honorable George Lantz, Mayor, City of Greenwood Village, 6060 South Quebec Street, Greenwood Village, CO 80111. | City Hall, 6060 South Quebec Street, Greenwood Village, CO 80111. | Jul. 24, 2023 | 080195
Arapahoe (FEMA Docket No.: B-2335). | Unincorporated areas of Arapahoe County (21-08-0505P). | Carrie Warren-Gully, Chair, Arapahoe County Board of Commissioners, 5334 South Prince Street, Littleton, CO 80120. | Arapahoe County Public Works and Development Department, 6924 South Lima Street, Littleton, CO 80112. | Jul. 24, 2023 | 080011
Denver (FEMA Docket No.: B-2335). | City and County of Denver (21-08-0294P). | The Honorable Michael B. Hancock, Mayor, City and County of Denver, 1437 Bannock Street, Suite 300, Denver, CO 80202. | Department of Transportation and Infrastructure, 201 West Colfax Avenue, Department 608, Denver, CO 80202. | Jul. 24, 2023 | 080046
Douglas (FEMA Docket No.: B-2334). | Unincorporated areas of Douglas County (22-08-0219P). | Abe Laydon, Chair, Douglas County Board of Commissioners, 100 3rd Street, Castle Rock, CO 80104. | Douglas County Public Works Department, Engineering Division, 100 3rd Street, Castle Rock, CO 80104. | Jul. 28, 2023 | 080049
Weld (FEMA Docket No.: B-2341). | Town of Johnstown (22-08-0435P). | Matt LeCerf, Town of Johnstown Manager, P.O. Box 609, Johnstown, CO 80534. | Town Hall, 450 South Parish Avenue, Johnstown, CO 80534. | Jul. 28, 2023 | 080250
Weld (FEMA Docket No.: B-2341). | Unincorporated areas of Weld County (22-08-0435P). | Scott James, Chair, Weld County Board of Commissioners, P.O. Box 758, Greely, CO 80631. | Weld County Commissioner's Office, 1150 O Street, Greely, CO 80632. | Jul. 28, 2023 | 080266
Florida:
Hillsborough (FEMA Docket No.: B-2335). | City of Plant City (22-04-3498P). | Bill McDaniel, Manager, City of Plant City, 302 West Reynolds Street, Plant City, FL 33563. | City Hall, 302 West Reynolds Street, Plant City, FL 33563. | Jul. 20, 2023 | 120113
Hillsborough (FEMA Docket No.: B-2335). | City of Tampa (23-04-0603P). | The Honorable Jane Castor, Mayor, City of Tampa, 306 East Jackson Street, Tampa, FL 33602. | Planning Department, 1400 North Boulevard, Tampa, FL 33607. | Jul. 27, 2023 | 120114
Palm Beach (FEMA Docket No.: B-2335). | Unincorporated areas of Palm Beach County (22-04-0127P). | Verdenia C. Baker, Palm Beach County Administrator, 301 North Olive Avenue, Suite 1101, West Palm Beach, FL 33401. | Palm Beach County Planning, Zoning, and Building Department, 2300 North Jog Road, West Palm Beach, FL 33411. | Jul. 24, 2023 | 120192
Volusia (FEMA Docket No.: B-2348). | City of Edgewater (23-04-1432P). | The Honorable Diezel DePew, Mayor, City of Edgewater, P.O. Box 100, Edgewater, FL 32132. | Stormwater Department, 409 Mango Tree Drive, Edgewater, FL 32132. | Aug. 4, 2023 | 120308
Maryland: Frederick (FEMA Docket No.: B-2341). | Unincorporated areas of Frederick County (23-03-0342P). | Jessica Fitzwater, Frederick County Executive, 12 East Church Street, Frederick, MD 21701. | Frederick County Division of Planning and Permitting, 30 North Market Street, Frederick, MD 21701. | Aug. 4, 2023 | 240027
Montana: Gallatin (FEMA Docket No.: B-2341). | City of Bozeman (22-08-0557P). | Jeff Mihelich, Manager, City of Bozeman, P.O. Box 1230, Bozeman, MT 59771. | Engineering Department, 20 East Olive Street, 1st Floor, Bozeman, MT 59715. | Jul. 26, 2023 | 300028
North Carolina: Moore (FEMA Docket No.: B-2341). | Village of Whispering Pines (22-04-5068P). | The Honorable Glenn Bernhard, Mayor, Village of Whispering Pines, 10 Pine Ridge Drive, Whispering Pines, NC 28327. | Moore County Planning and Inspections Department, 1048 Carriage Oaks Drive, Carthage, NC 28327. | Aug. 10, 2023 | 370464
South Carolina:
Berkeley (FEMA Docket No.: B-2335). | Town of Moncks Corner (22-04-1920P). | The Honorable Michael A. Lockliear, Mayor, Town of Moncks Corner, P.O. Box 700, Moncks Corner, SC 29461. | Community Development Department, 118 Carolina Avenue, Moncks Corner, SC 29461. | Jul. 20, 2023 | 450031
Berkeley (FEMA Docket No.: B-2335). | Unincorporated areas of Berkeley County (22-04-1920P). | Johnny Cribb, Supervisor, Berkeley County Council, 1003 North Highway 52, Moncks Corner, SC 29461. | Berkeley County Building and Codes Enforcement Department, 1003 North Highway 52, Moncks Corner, SC 29461. | Jul. 20, 2023 | 450029
Tennessee:
Hamilton (FEMA Docket No.: B-2335). | City of Collegedale (22-04-3380P). | The Honorable Morty Lloyd, Mayor, City of Collegedale, 4910 Swinyar Drive, Collegedale, TN 37315. | Public Works Department, 9751 Sanborn Drive, Collegedale, TN 37315. | Jul. 24, 2023 | 475422
Hamilton (FEMA Docket No.: B-2335). | Unincorporated areas of Hamilton County (22-04-3380P). | The Honorable Weston Wamp, Mayor, Hamilton County, 625 Georgia Avenue, Collegedale, TN 37402. | Hamilton County Public Works Division, 4005 Cromwell Road, Chattanooga, TN 37421. | Jul. 24, 2023 | 470071
Wilson (FEMA Docket No.: B-2348). | City of Mt. Juliet (23-04-1901P). | The Honorable James Maness, Mayor, City of Mt. Juliet, 2425 North Mt. Juliet Road, Mt. Juliet, TN 37122. | Public Works and Engineering Department, 71 East Hill Street, Mt. Juliet, TN 37122. | Aug. 3, 2023 | 470290
Wilson (FEMA Docket No.: B-2348). | Unincorporated areas of Wilson County (23-04-1901P). | The Honorable Randall Hutto, Mayor, Wilson County, 228 East Main Street, Lebanon, TN 37087. | Wilson County Planning Department, 228 East Main Street, Lebanon, TN 37087. | Aug. 3, 2023 | 470207
Texas:
Dallas (FEMA Docket No.: B-2348). | City of Dallas (23-06-0244P). | The Honorable Eric Johnson, Mayor, City of Dallas, 1500 Marilla Street, Room 5EN, Dallas, TX 75201. | Oak Cliff Municipal Center, 320 East Jefferson Boulevard, Room 312, Dallas, TX 75203. | Aug. 7, 2023 | 480171
Denton (FEMA Docket No.: B-2341). | City of Denton (22-06-2546P). | The Honorable Gerard Hudspeth, Mayor, City of Denton, 215 East McKinney Street, Denton, TX 76201. | Development Services Department, 401 North Elm Street, Denton, TX 76201. | Jul. 31, 2023 | 480194
Denton (FEMA Docket No.: B-2341). | City of Denton (23-06-0063P). | The Honorable Gerard Hudspeth, Mayor, City of Denton, 215 East McKinney Street, Denton, TX 76201. | Capital Projects/Engineering Department, 401 North Elm Street, Denton, TX 76201. | Jul. 31, 2023 | 480194
Denton (FEMA Docket No.: B-2341). | City of Fort Worth (22-06-1732P). | The Honorable Mattie Parker, Mayor, City of Fort Worth, 200 Texas Street, Fort Worth, TX 76102. | City Hall, 200 Texas Street, Fort Worth, TX 76102. | Aug. 7, 2023 | 480596
Denton (FEMA Docket No.: B-2341). | Unincorporated areas of Denton County (23-06-0063P). | The Honorable Andy Eads, Denton County Judge, 1 Courthouse Drive, Suite 3100, Denton, TX 76208. | Denton County Development Services Department, 3900 Morse Street, Denton, TX 76208. | Jul. 31, 2023 | 480774
Ellis (FEMA Docket No.: B-2341). | City of Ennis (22-06-2915P). | The Honorable Angeline L. Juenemann, Mayor, City of Ennis, 115 West Brown Street, Ennis, TX 75119. | Planning, Development and Inspection Department, 108 West Knox Street, Ennis, TX 75119. | Aug. 7, 2023 | 480207
Ellis (FEMA Docket No.: B-2341). | City of Midlothian (22-06-1316P). | Chris Dick, Manager, City of Midlothian, 104 West Avenue E, Midlothian, TX 76065. | City Hall, 104 West Avenue E, Midlothian, TX 76065. | Aug. 4, 2023 | 480801
Ellis (FEMA Docket No.: B-2341). | City of Waxahachie (22-06-1316P). | Michael Scott, Manager, City of Waxahachie, 401 South Rogers Street, Waxahachie, TX 75165. | City Hall, 401 South Rogers Street, Waxahachie, TX 75165. | Aug. 4, 2023 | 480211
Ellis (FEMA Docket No.: B-2341). | Unincorporated areas of Ellis County (22-06-1316P). | The Honorable Todd Little, Ellis County Judge, 101 West Main Street, Waxahachie, TX 75165. | Ellis County District Court House, 109 South Jackson Street, Waxahachie, TX 75165. | Aug. 4, 2023 | 480798
Harris (FEMA Docket No.: B-2341). | Unincorporated areas of Harris County (22-06-0678P). | The Honorable Lina Hidalgo, Harris County Judge, 1001 Preston Street, Suite 911, Houston, TX 77002. | Harris County Permits Office, 1111 Fannin Street, 8th Floor, Houston, TX 77002. | Jul. 24, 2023 | 480287
Harris (FEMA Docket No.: B-2341). | Unincorporated areas of Harris County (22-06-2197P). | The Honorable Lina Hidalgo, Harris County Judge, 1001 Preston Street, Suite 911, Houston, TX 77002. | Harris County Permits Office, 1111 Fannin Street, 8th Floor, Houston, TX 77002. | Jul. 24, 2023 | 480287
Tarrant (FEMA Docket No.: B-2335). | City of Fort Worth (22-06-2617P). | The Honorable Mattie Parker, Mayor, City of Fort Worth, 200 Texas Street, Fort Worth, TX 76102. | Transportation and Public Works Department, Engineering Vault, 200 Texas Street, Fort Worth, TX 76102. | Jul. 20, 2023 | 480596
Tarrant (FEMA Docket No.: B-2335). | City of Keller (22-06-2447P). | The Honorable Armin R. Mizani, Mayor, City of Keller, P.O. Box 770, Keller, TX 76244. | Town Hall, 1100 Bear Creek Parkway, Keller, TX 76248. | Jul. 24, 2023 | 480602
Virginia: Loudoun (FEMA Docket No.: B-2341). | Unincorporated areas of Loudoun County (22-03-0882P). | Tim Hemstreet, Loudoun County Administrator, P.O. Box 7000, Leesburg, VA 20175. | Loudoun County Government Center, 1 Harrison Street Southeast, 3rd Floor, MSC #60, Leesburg, VA 20175. | Jul. 31, 2023 | 510090

[FR Doc. 2023-18287 Filed 8-24-23; 8:45 am]

BILLING CODE 9110-12-P